DEPARTMENT OF HEALTH AND HUMAN SERVICES

Health Resources and Services Administration

Agency Information Collection Activities: Proposed Collection: Public Comment Request; Information Collection Request Title: Maternal, Infant, and Early Childhood Home Visiting Program Home Visiting Budget Assistance Tool

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than January 9, 2023.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Samantha Miller, the acting HRSA Information Collection Clearance Officer, at (301) 443-9094.

SUPPLEMENTARY INFORMATION: When submitting comments or requesting information, please include the ICR title for reference.

Information Collection Request Title: Maternal, Infant, and Early Childhood Home Visiting (MIECHV) Program Home Visiting Budget Assistance Tool, OMB No. 0906-0025-Revision.

Abstract: HRSA is requesting continued approval and revision to the Home Visiting Budget Assistance Tool (HV-BAT). The tool collects information on standardized cost metrics from programs that deliver home visiting services, as outlined in the HV-BAT. Entities receiving MIECHV formula funds that are states, jurisdictions, and nonprofit awardees are required to submit cost data using the HV-BAT to HRSA once every 3 years to be reviewed for accuracy and quality control and to collect data to estimate national program costs.

The MIECHV Program, authorized by section 511 of the Social Security Act, 42 U.S.C. 711, and administered by HRSA in partnership with the Administration for Children and Families, supports voluntary, evidence-based home visiting services during pregnancy and for parents with young children up to kindergarten entry. States, Tribal entities, and certain nonprofit organizations are eligible to receive funding from the MIECHV Program and have the flexibility to tailor the program to serve the specific needs of their communities. Funding recipients may subaward grant funds to local implementing agencies (LIA) in order to provide services to eligible families in at-risk communities. HRSA is making the following changes to the HV-BAT:

• Updating the burden estimate for completing the HV-BAT based on recently gathered information, and

• Translating the HV-BAT data collection instrument into Spanish to expand accessibility.

Need and Proposed Use of the Information: HRSA uses HV-BAT data to collect comprehensive home visiting cost data. Awardees submit aggregated data from their individual LIA, which provides HRSA with information needed to produce state and national cost estimates and support procurement activities and subrecipient monitoring. Requiring data submission also allows HRSA to ensure the tool is being accurately and appropriately used. Because the use of a standardized tool of this kind is novel to the field of home visiting, HRSA requires that states submit data collected using the HV-BAT to HRSA for the purposes of quality control reviews and accuracy checks. Submission will allow HRSA to estimate national-level costs for use in conducting research and analysis of home visiting costs, understanding cost variation, and assessing how comprehensive program cost data can inform other policy priorities, such as innovative financing strategies. HRSA is seeking to revise burden estimates to ensure accuracy and inform awardee planning for this activity. In addition, HRSA is translating the HV-BAT data collection instrument into Spanish in response to awardee feedback and to increase accessibility for LIA sites that primarily operate in Spanish.

Likely Respondents: One-third of MIECHV Program awardees (n=19, annually) that are states, jurisdictions, and, nonprofit organizations receiving MIECHV funding to provide home visiting services within states.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Home Visiting Budget Assistance Tool (HV-BAT) | 19 | 13 | 247 | 24 | 5,928
Total | 19 | 13 | 247 | 24 | 5,928

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-24375 Filed 11-7-22; 8:45 am]

BILLING CODE 4165-15-P